DEPARTMENT OF COMMERCE

International Trade Administration

[A-201-836]

Notice of Amended Final Determination of Sales at Less Than Fair Value: Light-Walled Rectangular Pipe and Tube From Mexico

AGENCY: Import Administration, International Trade Administration, Department of Commerce.

DATES: Effective Date: August 5, 2008.

FOR FURTHER INFORMATION CONTACT: Patrick Edwards or Judy Lao, Import Administration, International Trade Administration, U.S. Department of Commerce (the Department), 14th Street and Constitution Avenue, NW., Washington, DC 20230; telephone: (202) 482-8029 or (202) 482-7924, respectively.

Amendment to Final Determination

In accordance with sections 735(a) and 777(i)(1) of the Tariff Act of 1930, as amended, (the Act), on June 13, 2008, the Department made a final determination of sales at less than fair value (LTFV) in the investigation of light-walled rectangular pipe and tube from Mexico. The final determination was subsequently released to all parties in the proceeding, and published in the Federal Register on June 24, 2008. See Notice of Final Determination of Sales at Less Than Fair Value: Light-Walled Rectangular Pipe and Tube from Mexico, 73 FR 35649 (June 24, 2008) (Final Determination). On June 23, 2008, and pursuant to 19 CFR 351.224(c)(2), we received timely-filed allegations from respondents, Maquilacero S.A. de C.V. (Maquilacero) and Productos Laminados de Monterrey SA. de C.V. (PROLAMSA), that the Department made ministerial errors with respect to its final dumping margin calculations for both companies. See Letter from Maquilacero S.A. de C.V. to the Department of Commerce, regarding “Ministerial Error Comments,” dated June 23, 2008 (Maquilacero Ministerial Letter); see also Letter from Productos Laminados de Monterrey S.A. de C.V., regarding “Ministerial Error Comments,” dated June 23, 2008 (PROLAMSA Ministerial Letter). On June 25, 2008, we received comments from petitioners regarding the ministerial errors alleged by PROLAMSA. See Letter from Petitioners to the Department, regarding the ministerial errors alleged by PROLAMSA, dated June 25, 2008.

After analyzing respondents' ministerial error comments, we have determined, in accordance with 19 CFR 351.224(e), that we made the following ministerial errors with respect to our final dumping margin calculations for Maquilacero and PROLAMSA.

Maguilacero

The Department has revised its margin calculation for Maquilacero with regard to certain expense adjustments. Specifically, the Department inadvertently did not adjust the comparison and U.S. market net prices for certain expenses reported in Maquilacero's sales databases, i.e., maqhm06b and maqus06b.¹ See Maquilacero Ministerial Letter. The Department has revised its calculation of both the comparison and U.S. market net prices to adjust for these expenses as intended. For a detailed discussion of the ministerial errors alleged by Maquilacero as well as the Department's analysis, see Memorandum from the Team to Richard O. Weible, entitled, “Ministerial Error Allegation in the Final Determination of the Antidumping Duty Investigation of Light-Walled Rectangular Pipe and Tube from Mexico: Maquilacero S.A. de C.V.,” dated July 24, 2008. Correcting these errors results in a revised margin of 2.40 percent for Maquilacero as indicated in the “Amended Cash Deposits” section below.

PROLAMSA

The Department has revised its margin calculation for PROLAMSA, to correct for two errors. First, the Department inadvertently applied the incorrect scrap offset factor in calculating PROLAMSA's cost of direct materials in its final determination. Based on the Department's findings at verification, the Department recalculated PROLAMSA's variance factor to exclude the cost of direct materials for semi-finished products. See Memorandum from Gina K. Lee, Accountant, to the File, regarding “Verification of the Cost Response of Prolamsa (A-201-836),” dated April 15, 2008 (PROLAMSA Cost Verification Report) at 2, 19-20. However, the Department inadvertently applied the original scrap offset factor to calculate PROLAMSA's cost of direct materials net of scrap revenue (DMNET) for the final determination. See PROLAMSA Ministerial Letter at 2. The Department is, therefore, revising its calculation of DMNET to reflect the revised scrap offset factor, as intended. Second, because the Department has revised PROLAMSA's total cost of manufacturing as described above, the Department is consequently revising the calculation of PROLAMSA's inventory carrying costs during the period of investigation because these costs are based upon PROLAMSA's cost of manufacturing.

PROLAMSA further alleged a ministerial error with regard to the Department's calculation of its total cost of manufacturing. See PROLAMSA Ministerial Letter at 3-4. Specifically, PROLAMSA alleges that the Department made a mathematical calculation error by applying the adjusted variance factor to its total cost of manufacturing which includes an amount for the B-10 adjustment.² After reviewing PROLAMSA's allegation, we have determined that the alleged error is methodological in nature and, therefore, does not constitute a ministerial error within the meaning of 19 CFR 351.224(f). For a detailed discussion of the ministerial errors alleged by PROLAMSA as well as the Department's analysis, see Memorandum from the Team to Richard O. Weible, entitled, “Ministerial Error Allegations in the Final Determination of the Antidumping Duty Investigation of Light-Walled Rectangular Pipe and Tube from Mexico: Productos Laminados de Monterrey S.A. de C.V.,” dated July 24, 2008. Correcting the scrap offset factor and adjusting the calculation of PROLAMSA's inventory carrying costs to account for this correction, results in a revised margin for PROLAMSA of 5.12 percent as indicated in the “Amended Cash Deposits” section below.

Therefore, in accordance with 19 CFR 35 1.224(e), we are amending the final determination of sales at LTFV in the antidumping duty investigation of light-walled rectangular pipe and tube from Mexico for Maquilacero and PROLAMSA.

All-Others Rate

Section 735(c)(5)(A) of the Act provides that the estimated all-others rate shall be an amount equal to the weighted-average of the estimated weighted-average dumping margins established for exporters and producers individually investigated, excluding any zero and de minimis margins and any margins determined entirely under section 776 of the Act. For this amended final determination, we have calculated amended margins for Maquilacero and PROLAMSA that are both above de minimis . Notwithstanding the language of section 705(c)(1)(B)(i)(I) of the Act, we have not calculated the all-others rate by weight averaging the rates of Maquilacero and PROLAMSA, because doing so risks disclosure of proprietary information.

Therefore, for purposes of determining the all-others rate, and pursuant to section 735(c)(5)(A) of the Act, we are using the simple-average rate of the amended dumping margins calculated for Maquilacero and PROLAMSA, i.e., 3.76 percent.

Amended Cash Deposits

The revised weighted-average dumping margins are as follows: ³

Manufacturer/exporter | Final determination weighted average | Amended final weighted average margin percentage
Maquilacero S.A. de C.V. | 2.94 | 2.40
Productos Laminados de Monterrey S.A. de C.V. | 5.73 | 5.12
Arco Metal S.A. de C.V. | 4.33 | 3.76
Hylsa S.A. de C.V. | 4.33 | 3.76
Internacional de Aceros, S.A. de C.V. | 4.33 | 3.76
Perfiles y Herrajes LM, S.A. de C.V. | 4.33 | 3.76
Regiomontana de Perfiles y Tubos | 4.33 | 3.76
Talleres Acero Rey S.A. de C.V. | 4.33 | 3.76
Tuberia Laguna, S.A. de C.V. | 4.33 | 3.76
All-Others | 4.33 | 3.76

Continuation of Suspension of Liquidation

In accordance with section 735(c)(1)(B) of the Act, we are directing U.S. Customs and Border Protection (CBP) to continue to suspend liquidation of all entries of light-walled rectangular pipe and tube from Mexico. CBP shall require a cash deposit equal to the estimated amount by which the normal value exceeds the U.S. price as indicated in the chart above. These instructions suspending liquidation will remain in effect until further notice.

This amended determination is issued and published pursuant to section 735(e) of the Act.

Dated: July 24, 2008.
David M. Spooner,
Assistant Secretary for Import Administration.

¹ The Department verified these adjustments during its verification of Maquilacero's comparison and U.S. market sales. See Verification of the Sales Responses of Maquilacero S.A. de C.V in the Antidumping Investigation of Light-Walled Rectangular Pipe and Tube from Mexico, dated April 11, 2008.

² In the Final Determination, the Department increased the total cost of manufacturing for each product by the percentage difference between the subject merchandise variance percentage recalculated by the Department and the variance percentage previously reported by PROLAMSA. See “Issues and Decision Memorandum for the Final Determination of the Antidumping Duty Investigation of Light-Walled Rectangular Pipe and Tube from Mexico,” from Stephen J. Claeys, Deputy Assistant Secretary for Import Administration, to David M. Spooner, Assistant Secretary for Import Administration, dated June 13, 2008. See also “Cost of Production and Constructed Value Calculation Adjustments for the Final Determination: Productos Laminados de Monterrey S.A. de C.V.,” memorandum from Gina K. Lee to Neal M. Halper, dated June 13, 2008.

³ The Department determined an adverse facts available (AFA) rate of 11.50 percent in the final determination of sales at LTFV of this investigation for certain Mexican producers and/or exporters of LWR that were non-responsive to our requests for information. The Department based the AFA rate upon the highest estimated margin alleged in the petition. See Notice of Final Determination of Sales at Less Than Fair Value: Light-Walled Rectangular Pipe and Tube from Mexico, 73 FR 35649 (June 24, 2008). We note that the AFA rate of 11.50 percent continues to apply for these companies.

[FR Doc. E8-17719 Filed 8-4-08; 8:45 am]

BILLING CODE 3510-DS-M